DEPARTMENT OF HOMELAND SECURITY

Coast Guard

[Docket No. USCG-2008-0986]

Voluntary Compliance With International Sewage Regulations in Annex IV to MARPOL 73/78

AGENCY: Coast Guard, DHS.

ACTION: Notice of availability.

SUMMARY: The U.S. Coast Guard announces the availability of Navigation and Vessel Inspection Circular (NVIC) No. 1-09, which provides guidance on voluntary compliance with MARPOL Annex IV. On January 1, 2010, the revised effluent standards and performance test criteria for sewage treatment plants under MARPOL Annex IV will enter into force internationally. The United States is not party to MARPOL Annex IV; however, vessels registered in the United States visiting nations that are party may need to demonstrate compliance with MARPOL Annex IV regulations on the prevention of pollution by sewage from ships. The U.S. Coast Guard is assisting vessels registered in the United States as well as the manufacturers of sewage treatment plants, and the independent laboratories that test such equipment, in demonstrating compliance with MARPOL Annex IV by providing the guidance in NVIC No. 1-09. Failure of a vessel registered in the United States to have the appropriate certificate demonstrating voluntary compliance with MARPOL Annex IV could result in a port State detention abroad.

DATES: The revised effluent standards and performance tests for sewage treatment plants enter into force on January 1, 2010, for ships with a keel laid date on or after January 1, 2010, and for ships having a sewage treatment plant installed or delivered on or after January 1, 2010.

ADDRESSES:

Testing Facility

Requests for a U.S. Coast Guard letter of acceptance as a qualified facility may be sent to the Office of Design and Engineering Standards (CG-521), U.S. Coast Guard, 2100 Second St., SW., Washington, DC 20593-7126.

Equipment Manufacturer

Requests for a U.S. Coast Guard Certificate of Approval may be sent to the Marine Safety Center, U.S. Coast Guard, 2100 Second St., SW., Washington, DC 20593-7102.

Vessel

Requests for a Statement of Voluntary Compliance with MARPOL Annex IV and request for onboard survey may be sent to the local Officer in Charge, Marine Inspection (OCMI). For a listing of OCMIs, visit our Internet portal Homeport at http://homeport.uscg.mil and then select Port Directory.

FOR FURTHER INFORMATION CONTACT: For additional information about this notice, please contact one of the following:

Testing Facility

Lieutenant Rob Griffiths, Office of Design and Engineering Standards (CG-521), telephone +1 (202) 372-1367, e-mail Robert.P.Griffiths@uscg.mil.

Equipment Manufacture

Chief Warrant Officer Timothy R. Willis, Marine Safety Center, telephone +1 (202) 475-3402, e-mail Timothy.R.Willis@uscg.mil.

U.S. Flagged Vessels

Local OCMI. See Port Directory at http://homeport.uscg.mil. For vessels enrolled in the Alternate Compliance Program, contact the Authorized Classification Society. Alternatively, contact Lieutenant Commander Scott Muller, Office of Vessel Activities (CG-543), telephone (202) 372-1220, e-mail Scott.W.Muller@uscg.mil.

Non-U.S. Flagged Vessel

Local port State control office. See Port Directory at http://homeport.uscg.mil. Alternatively, contact Mr. John Sedlak, Office of Vessel Activities (CG-543), telephone +1 (202) 372-1240, e-mail John.S.Sedlak@uscg.mil.

SUPPLEMENTARY INFORMATION: Navigation and Vessel Inspection Circular (NVIC) No. 1-09 establishes the policies, procedures, and standards for requesting U.S. Coast Guard statement of voluntary compliance with MARPOL Annex IV. These procedures are divided into four distinct sections covering: (1) General applicability, (2) testing facilities, (3) equipment manufacturers, and (4) the issuance of vessel certificates. You may download this NVIC from the Internet at http://www.uscg.mil/hq/cg5/nvic/ or obtain a copy by contacting one of the individuals listed under FOR FURTHER INFORMATION CONTACT.

The Marine Environment Protection Committee (MEPC) of the International Maritime Organization (IMO) recently revised MARPOL Annex IV resulting in several changes to the regulations governing discharge of sewage from ships on international voyages. First, inspection criteria were enhanced to include initial surveys of installed sewage systems prior to being placed into service and periodic surveys throughout the life of the ship. Next, standards for discharging treated sewage (i.e., effluent) into the water were made more stringent and equipment testing procedures were standardized. Finally, discharge rates for untreated sewage were established.

These revisions to MARPOL Annex IV, especially the effluent standards contained in resolution MEPC.159(55), which are effective on January 1, 2010, eliminates the prior equivalency that had existed between Type I and Type II marine sanitation device requirements approved by the United States and sewage treatment plant requirements of MARPOL Annex IV. This creates a potential for adverse port State control action (e.g., detention) to be taken against U.S. registered vessels engaged in international voyages with a keel laid date on or after January 1, 2010, or having a sewage treatment plant installed or delivered on or after that date.

Discussion

MARPOL Annex IV requires certain ships that engage in international voyages to have a valid International Sewage Pollution Prevention Certificate (ISPPC) issued by its flag Administration or by a recognized organization acting on behalf of the flag Administration. Under the provisions of Annex IV, an ISPPC cannot be issued to a ship unless its flag State is party to that Annex.

The United States is not party to MARPOL Annex IV. Vessels registered in the United States that engage in international voyages with sewage systems in compliance with Annex IV may be eligible instead to receive a Statement of Voluntary Compliance (SOVC). This certificate takes the place of the ISPPC and is issued to a U.S. vessel by the U.S. Coast Guard or by an Authorized Classification Society (ACS), as appropriate, to demonstrate compliance with MARPOL Annex IV.

Applicability

MARPOL Annex IV, as adopted in resolution MEPC.115(51), is applicable to ships on international voyages that are:

(1) 400GT and greater; or

(2) Less than 400GT when certified to carry more than 15 persons, which includes both passengers and crew.

The effluent standards and performance tests, as adopted in resolution MEPC.159(55), are applicable to sewage treatment plants for ships with a keel laid date on or after January 1, 2010, and for ships having a sewage treatment plant installed or delivered on or after January 1, 2010. Ships with a keel laid date prior to January 1, 2010, or ships having a sewage treatment plant installed or delivered prior to that date, may continue to use equipment certified to either the 1976 international effluent standards contained in resolution MEPC.2(VI) or an applicable national specification. In the United States, this applicable national specification is 33 CFR Part 159.

MARPOL Annex IV may be applicable to other vessels including small tugs, recreational boats, yachts, etc., that engage in international voyages because Regulation 4 in MARPOL Annex IV requires a flag Administration to establish appropriate measures for vessels not subject to international sewage regulations. In this case, for U.S. vessels and other vessels subject to the jurisdiction of the United States, appropriate measures are provided for under 33 CFR Part 159. U.S. vessels intending to engage in international voyages may apply for a SOVC.

Application Procedures

Facilities that are in the business of independently evaluating, inspecting, and testing shipboard sewage systems and the effluent discharged from such systems for compliance with published standards may request a U.S. Coast Guard letter of acceptance as a qualified facility from the Office of Design and Engineering Standards (CG-521) listed under ADDRESSES and FOR FURTHER INFORMATION CONTACT.

Manufacturers of sewage treatment plants may apply to any facility accepted by the U.S. Coast Guard as a qualified facility to perform independent evaluation, inspection, and testing of sewage treatment plants for compliance with MARPOL Annex IV. For sewage comminuting and disinfection systems, or for sewage holding tanks, the application is sent instead to any facility accepted by the U.S. Coast Guard as a recognized facility. To obtain a U.S. Certificate of Approval, the manufacturer submits the results from the qualified facility or recognized facility, as appropriate, along with other supporting documentation, to the Marine Safety Center listed under ADDRESSES and FOR FURTHER INFORMATION CONTACT.

The owner or operator of a vessel registered in the United States with an installed and operational sewage system certified by the U.S. Coast Guard may apply for a SOVC for MARPOL Annex IV from the local OCMI or ACS, as appropriate. For assistance in finding the nearest OCMI or ACS, visit our Internet portal Homeport at http://homeport.uscg.mil and then select Port Directory. Alternatively, you may contact the Office of Vessel Activities (CG-543) listed under ADDRESSES and FOR FURTHER INFORMATION CONTACT.

Surveys

The vessel is subject to an initial examination before the ship is put into service or before the SOVC is issued for the first time. The purpose of this examination is to verify that the vessel's structure, equipment, systems, fittings, arrangement, and material of the installed sewage system are fully compliant with MARPOL Annex IV.

Before 5 years after the initial or last renewal survey, the vessel is subject to a renewal examination. The purpose of this examination is to verify that the vessel's structure, equipment, systems, fittings, arrangement, and material of the installed sewage system are still compliant with MARPOL Annex IV.

The vessel is subject to additional examinations, either general or partial, according to the circumstances, whenever any important repairs or renewals have been made to the installed sewage system. The purpose of this examination is to verify that the necessary repairs or renewals have been effectively made, that the materials and workmanship of such repairs or renewals are satisfactory, and that the ship is compliant with MARPOL Annex IV.

Statement of Voluntary Compliance

The cognizant OCMI or ACS may issue or renew, as appropriate, the SOVC for MARPOL Annex IV to a U.S. vessel that is equipped with an installed and operational sewage system certified by the U.S. Coast Guard after successful onboard survey. The SOVC for MARPOL Annex IV, issued on form CG-6047A, is valid for a period up to five years unless endorsed with an extension, provided the periodic examinations are conducted and there is no change in the vessel's flag. Vessels flagged outside the United States are not issued a SOVC certificate by the U.S. Coast Guard.

Reciprocity

Any vessel flagged or registered outside the United States that holds a valid ISPPC issued by its flag Administration indicating the installed sewage system complies with MARPOL Annex IV, as amended by either resolution MEPC.159(55) or MEPC.2(VI), will be accepted by the U.S. Coast Guard as being in compliance with U.S. regulations on design, construction, testing, and certification contained in 33 CFR part 159, while operating in waters subject to the jurisdiction of the United States. Acceptance of a valid ISPPC is conditional on the installed sewage system being substantially in an operable condition as required by MARPOL Annex IV, and may be subject to verification by the U.S. Coast Guard under port State control.

Existing Certificates of Equivalency

The cognizant OCMI or ACS, as appropriate, may continue to issue and renew existing Certificates of Equivalency issued to U.S. vessels under the provisions of “MOC Policy Letter No. 03-03” until January 1, 2010, at which time all such certificates will expire. A copy of “MOC Policy Letter No. 03-03” can be found on Homeport by clicking the “Library” tab and then the “Policy” tab, and finally the “Policy Letter” tab. SOVC certificates are required on or after January 1, 2010.

Dated: June 23, 2009.
Brian M. Salerno,
Assistant Commandant for Marine Safety, Security and Stewardship.

[FR Doc. E9-15485 Filed 6-29-09; 8:45 am]

BILLING CODE 4910-15-P